ENVIRONMENTAL PROTECTION AGENCY

[FRL-8746-7]

Extension of Public Comment Period for the Proposed Reissuance of General NPDES Permit (GP) for Offshore Seafood Processors in Alaska (AKG524000)

AGENCY: Environmental Protection Agency (EPA).

ACTION: Extension of Public Comment Period on the draft general NPDES permit for Offshore Seafood Processors in Alaska (AKG524000).

SUMMARY: On September 26, 2008, EPA Region 10 proposed to issue a general permits to cover Offshore Seafood Processors in Alaska 73 FR 55840. In response to requests from the regulated community, EPA is extending the public comment period from November 10 to December 10, 2008.

DATES: The end of the public comment period is now extended to December 10, 2008. Comments must be received or postmarked by that date.

Public Comment: Interested persons may submit written comments on the draft permit to the attention of Lindsay Guzzo at the address below. All comments should include the name, address, and telephone number of the commenter and a concise statement of comment and the relevant facts upon which it is based. Comments of either support or concern which are directed at specific, cited permit requirements are appreciated. After the expiration date of the Public Notice on December 10, 2008; the Director, Office of Water and Watersheds, EPA Region 10, will make a final determination with respect to issuance of the general permit. The proposed requirements contained in the draft general permit will become final upon issuance if no significant comments are received during the public comment period.

ADDRESSES: Comments on the proposed General Permit should be sent to Lindsay Guzzo, Office of Water and Watersheds; USEPA Region 10; 1200 Sixth Avenue, Suite 900, OWW-130; Seattle, Washington 98101 or by e-mail to Guzzo.Lindsay@epa.gov.

FOR FURTHER INFORMATION CONTACT: Lindsay Guzzo, 206-553-0268, Guzzo.Lindsay@epa.gov. Copies of the draft general permit and fact sheet may be downloaded from the EPA Region 10 Web site at http://yosemite.epa.gov/r10/WATER.NSF/NPDES+Permits/DraftPermitsAK. They are also available upon request from Audrey Washington at (206) 553-0523, or e-mailed to washington.audrey@epa.gov. For information on physical locations in Alaska and Seattle where the documents may be viewed, see the September 26, 2008, notice at 73 FR 55840.

Dated: November 20, 2008.
Michael F. Gearheard,
Director, Office of Water & Watersheds, Region 10.

[FR Doc. E8-28322 Filed 11-26-08; 8:45 am]

BILLING CODE 6560-50-P